DEPARTMENT OF HEALTH AND HUMAN SERVICES

Health Resources and Services Administration

Training and Technical Assistance Cooperative Agreement Limited Competition Announcement

AGENCY: Health Resources and Services Administration, HHS.

ACTION: Notice of limited competition cooperative agreement.

SUMMARY: The Health Resources and Services Administration (HRSA) announces that it will award limited competition cooperative agreements for four Training and Technical Assistance Cooperative Agreements to the following four national AIDS organizations: AIDS Action Foundation (AAF), National Association of People Living with AIDS (NAPWA), National Association of State and Territorial AIDS Directors (NASTAD), and the National Minority AIDS Council (NMAC).

The purpose of these cooperative agreements is to assist people who work with Ryan White Comprehensive AIDS Resources Emergency (CARE) Act funded programs and other programs with an interest in HIV/AIDS, to understand and put into action the requirements of the CARE Act as reauthorized in October, 2000.

The new requirements of the CARE Act can be summarized into the following primary goals:

(1) Improving access to HIV services and addressing the unmet HIV-related needs of people who are living with HIV, but are not in care.

(2) Improving health outcomes for people living with HIV through quality management.

(3) Increasing the service capacity of organizations in underserved areas to address the HIV health and support needs communities living with and affected by HIV.

(4) Increasing the availability of needed resources in communities facing new and emerging HIV epidemics.

(5) Increasing coordination and linkages among federally funded programs in communities to improve health outcomes and better use resources for people living with HIV.

These goals will be achieved through the provision of targeted training and technical assistance to health professionals working in and with CARE Act funded programs and other programs providing services to people infected and affected by HIV/AIDS. Health professionals will include administrative and direct service staff of State/local AIDS programs, State/local health departments, CARE Act grantees and their subcontractors, other AIDS service organizations (ASO) and community based organizations (CBO); members of CARE Act planning bodies; and consumers.

HRSA will provide consultation, including administrative and technical assistance as needed, for the execution and evaluation of all aspects of these cooperative agreements. HRSA may also participate and/or collaborate with the organizations in any workshops or meetings to exchange current information, opinions and best practice findings during these cooperative agreements.

Authorizing Legislation: These cooperative agreements are authorized under Title XXVI, Part F of the Public Health Service Act, (Title 42, U.S.C.) as amended by Public Law 106-345, the Ryan White CARE Act Amendments of 2000, dated October 20, 2000.

Background: Assistance will be provided to: AIDS Action Foundation, National Association of People Living with AIDS, National Association of State and Territorial AIDS Directors, and the National Minority AIDS Council. No other applications are solicited. These four organizations are uniquely qualified to develop and provide TA in several priority areas identified by Congress, HRSA and HAB staff, grantees and other constituents.

These organizations have significant experience in responding to the HIV/AIDS epidemic. In particular, their three to five years of experience working closely with HAB has made them intimately familiar with the Ryan White CARE Act funded programs and their most recent challenges.

(1) The AIDS Action Foundation, founded in 1984, is the only organization solely dedicated to supporting the development of policies that improve HIV/AIDS care and services, vigorous medical research and effective prevention. The Foundation is a highly respected source for news and updates on the latest developments in AIDS related policies. It represents a network of 3,200 national AIDS service organizations whom they assist, through educational activities, in working with a variety of populations.

(2) NAPWA has an extensive history responding to the diverse needs of those infected. They do so through national campaigns, publication development, provider and consumer education and training, and community strengthening. It has the ability to reach 40,000 people to forward the most up-to-date HIV/AIDS related news and information of the field.

(3) NASTAD is the only officially established organization that represents and convenes the State and Territorial AIDS Directors of all 50 States and U.S. Territories. For the past nine years, the organization's constituents have included all the program administrators responsible for managing federally and state-funded HIV/AIDS programs, including HIV/AIDS care and treatment programs funded by Title II of the Ryan White CARE Act, and the HIV prevention programs funded by the CDC.

(4) Finally, NMAC is the only national organization founded specifically to develop leadership within communities of color to fight AIDS. NMAC has a thirteen-year history working with minority-controlled organizations and other representatives from communities of color to foster new leadership and address the unique challenges HIV/AIDS presents for racial/ethnic minorities. NMAC has taken a lead on helping minority CBOs to increase their comfort with, knowledge of, and proficiency in the rapid technological advancements of recent years.

Approximately $800,000 is available in Fiscal Year 2001 for the first year of a 3-year project period. It is expected that awards will be made on or before September 30, 2001. Continuation awards within the project period will be made on the basis of satisfactory progress and the availability of funds.

FOR FURTHER INFORMATION CONTACT: Additional technical information may be obtained from Rene Sterling, HIV/AIDS Bureau, Health Resources and Services Administration, 5600 Fishers Lane, Room 7-36, Rockville, MD 20857. The telephone number is (301) 443-7778, the fax number is (301) 594-2835, and the e-mail address is Rsterling@hrsa.gov.

Dated: June 29, 2001.
Elizabeth M. Duke,
Acting Administrator.

[FR Doc. 01-16919 Filed 7-5-01; 8:45 am]

BILLING CODE 4160-15-U